DEPARTMENT OF LABOR

Employment and Training Administration

Workforce Investment Act (WIA) Standardized Record Data (WIASRD), Quarterly Summary Report, and Annual Report; Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the Workforce Investment Act Management Information and Reporting System.

A copy of the proposed information collection request (ICR) can be obtained by contacting the office listed below in the addressee section of this notice.

DATES: Written comments must be submitted to the office listed in the addressee's section below on or before March 12, 2002.

ADDRESSES: U.S. Department of Labor, Employment and Training Administration, 200 Constitution Avenue, N.W., Room S-4231, Washington, DC, 20210. Attention: William Rabung, Telephone: (202) 693-3031 (not a toll-free number), Facsimile number: (202) 693-3229, E-mail address: wrabung@doleta.gov.

SUPPLEMENTARY INFORMATION:

I. Background

In implementing the performance accountability and reporting provisions of the Workforce Investment Act of 1998 (WIA), all state jurisdictions and territories operating programs under WIA Title I-B are required to submit three types of participation and performance reports electronically to DOL on a periodic basis that allow the Department to manage its responsibilities under: (1) WIA section 136(d); (2) WIA section 185(a)(2), (c)(2), and (d); and (3) WIA section 189(d). These responsibilities include reporting the progress of States in achieving negotiated levels of performance on the required core and customer satisfaction measures, reports and recordkeeping, and responsibilities under the Government Performance and Results Act (GPRA). The Department seeks to extend these data collection and reporting requirements without change. The Department originally received approval of this reporting package on March 1 of this year with an expiration date of October 31 of this year. This very limited approval period made it impossible for the Department to receive required information from states or to perform any analyses of the data for purposes of program administration. The Department has requested and received a 90 day extension of this reporting package in order for the Department to at least receive the next quarterly report and the first annual report and WIASRD data from states. In order to meet the requirements of the Paperwork Reduction Act, the Department is submitting this package as approved on March 1, 2000 with only minor clarification and grammatical corrections for extension of data collection and reporting requirements.

There are two basic report systems—financial and program. The financial reports are required quarterly, as provided for in WIA sec. 185(e). To avoid unnecessary reporting, the quarterly financial report looks at expenditures and records related to WIA sec. 185(f) and (g). The quarterly financial report was addressed in a separate Federal Register notice (65 FR 5897-5898, Feb. 7, 2000). Turning to the program report system, there are three types of reports submitted by states: individual records, quarterly summary reports, and annual reports.

A. Individual Records

The Department established a standard set of core data elements that must be maintained for each individual who receives WIA Title I-B services beyond self-service and informational activities. The number of data elements collected for each individual is driven by the level of service. States submit individual record-level electronic records for program exiters annually. The Workforce Investment Act Standardized Record Data (WIASRD) contains:

—Relevant demographic characteristics including race, ethnicity, sex and age and other related information on the participants (WIA sec. 185(d)(1)(A));

—WIA Title I-B and partner program activities in which the participants are enrolled (WIA sec. 185(d)(1)(B)); and

—Outcomes for the participants, including occupations and placement in non-traditional employment (WIA sec. 185(d)(1)(C)).

The WIASRD and related documents can be viewed at the Department's Internet Web site, http://www.usworkforce.org.

B. Quarterly Summary Reports

The quarterly summary reports reflect statewide activity for negotiated performance and actual performance levels as well as the number of current participants and those participants who exited during the program period.These reports provide DOL with key information necessary for program oversight purposes. This information facilitates the Department's efforts in assessing its own performance against established GPRA goals. States electronically submit the quarterly summary reports within 45 days following the end of each quarter.

The Quarterly Summary Report format and instructions for completing this report can be viewed at the Department's Internet Web site, http://www.usworkforce.org.

C. Annual Reports

On an annual basis, each state publishes and submits to the Secretary an Annual Report which explains the outcomes of WIA Title I-B programs to employers, taxpayers, participants and Congress and meets the provisions at WIA sec.136(d) and WIA sec. 185(d). This report emulates the private sector's “report to stockholders” and affords considerable flexibility to states to represent their qualities in the most advantageous manner to all stakeholders, including Congress, Governors, state legislators, workforce investment boards, and the public. This report is submitted electronically to DOL.

The state's Annual Report includes state performance as well as local performance. Copies of each state's Annual Report are sent to Congress. The performance outcomes detailed in the report will serve as the basis for awarding incentives or administering sanctions to states for performance which exceeds or falls below the negotiated levels of performance.

The instructions for completing an annual report can be accessed and viewed at the Department's Internet Web site, http://www. usworkforce.org. In order to report on the two required customer satisfaction measures (one for employers and one for participants) in the annual and quarterly summary reports, states must conduct surveys of both groups following the directions contained in Attachment V posted on the Department's Internet Web site, http://www.usworkforce.org.

II. Current Actions

The proposed extension of the data collection and reporting system will assist the Department in meeting its mandated responsibilities by providing standardized information regarding demographics, activities and outcomes for all registrants receiving more than informational or self-service in all states and workforce investment areas. Information will also be used for general oversight, continuous improvement and research purposes.

Type of Review: Extension.

Agency: Employment and Training Administration.

Titles: Workforce Investment Act Standardized Record Data, (WIASRD), Annual Report, Quarterly Summary Reports.

OMB Number: 1205-0420.

Affected Public: State governments, local workforce investment areas, and local workforce investment boards.

Cite/Reference: Authority to collect this information is provided by the Workforce Investment Act of 1998 in secs. 136, 185, and 189.

Form/etc: See the documents posted on the Department's Internet Web site, http://www.usworkforce.org.

Total Respondents: 53 (50 States, District of Columbia, Puerto Rico, and Virgin Islands).

Frequency: Annual Report—Yearly by December 1; Quarterly Summary Report—submitted within 45 days following each quarter; Individual Record—Annually by December 1.

Total Responses: One Annual Report for each respondent. States must submit three hard copies and one electronic copy of the annual report to the Secretary of Labor. One electronic submission of the Quarterly Summary Report from each respondent. One electronic data set from each of the respondents containing individual records for each registrant served.

Average Time: 2,384 hours.

Per Response: The actual response time varies by number of local workforce investment boards and individual records of individuals served in the state.

Estimated Total Burden Hours:

Cite/reference | Total respondents | Frequency | Total responses | Average time per response | Burden (total nat. hrs.)
Individual Records | 53 entities are required to submit individual records 6 entities may submit individual records ¹ | Annually | 53 (One set of records per respondent. Set will vary in size depending on the number of individuals served in the jurisdiction.) | 13,272 hours | 703,416 hours
Annual Report | See above | Annually | 53 | 45 hours | 2,385 hours
Customer Satisfaction Survey | 53 States* | Quarterly/Annually | (Results to be included in the Annual and Quarterly Reports) | 5 min. (1/12 hr.)** | 4,417 hours
| Agency Administration 53 |  |  | 688 hours | 36,464 hours
| Overhead 53 |  |  | 154 hours | 8,162 hours
Quarterly Summary Report | 53 | Quarterly | 212 (53×4) | 16 hours | 3,392 hours.
Totals | 53 | Quarterly/Annually | 318 | 2,384 hours | 758,236 hours.
*Each State will submit one index score for the employer responses and one for the participant responses.
**Assumes only 3 ASCI questions are administered.
¹ All 50 States, the District of Columbia, Puerto Rico and The U.S. Virgin Islands are required to submit individual records, quarterly reports and annual reports using the instructions and formats provided.
The Secretary may reserve up to ¼ of 1 percent of the WIA Title I-B funds for Guam, American Samoa, the Commonwealth of the Northern Mariana Islands, and the Freely Associated States (The Marshall Islands, Palau and the Federated States of Micronesia). Notwithstanding any other provision of law, the Freely Associated States shall not receive any assistance for any program year that begins after September 30, 2001 (WIA section 127(b)(1)(B)(ii)(IV)). These areas have limited access to technology, wage records and unique economies that result in barriers to implementing some of the indicators of performance and to collecting and reporting data. Given these unique circumstances, regional staff will work with these entities to develop suitable reporting requirements. These areas are not eligible to receive incentive grants for exceeding negotiated levels of performance.

Explanation of Burden Hours:

A. Individual Record—703,416 hrs.

Baseline: 8,768 hrs./reporting unit in the Paperwork Reduction Package regarding the JTPA reporting system (SPIR = 56 State reporting units).

Factor: 51% higher due to (1) increase in size of record, and (2) increase in number of program participants. Increases were not cumulative; some allowance made for economies of scale and learning curve.

B. Annual Report—2,385 hrs.

Estimate based on 45 hrs./reporting unit to produce one report per year (includes program run, checking, report formatting for transmission).

C. Quarterly Report—3,392 hrs.

Estimate based on 64 hrs./reporting unit to produce four reports per year (includes program run, checking, report formatting for transmission)—16 hrs./report.

D. Customer Satisfaction Survey.

Respondents—4,417 hrs.

Estimate based on 1,000 responses per reporting unit (500 WIA participants and 500 employers) and 5 min. (1/12 hr.) per survey. This assumes the three ACSI questions are asked. States may incur increased costs in the event additional questions are asked on the surveys.

Survey Administration—36,464 hrs.

Estimate based on 41 minutes to obtain a completed survey (telephone contacts, call-backs, data entry). This estimate assumes 50% of the respondents for each State will take an average of 30 minutes each, 25% will require an average of 45 minutes, and 25% will require an average of 60 minutes to obtain each completed survey.

Survey Preparation and Overhead—8,162 hrs.

Estimate based on:

Survey development (preparation of questionnaire and telephone script for interviewer)—40 hrs./reporting unit;

Sample selection—24 hrs./reporting unit;

Survey set-up (setting up survey for telephone administration and creation of a database)—40 hrs./reporting unit;

Compilation of results (includes generation of descriptive statistics and calculation of index for participants and employers)—50 hrs./reporting unit.

Total Burden Cost (Capital/Start-up Costs): $0. All respondents are currently operating production-status reporting systems.

Total Burden Cost (Operation and Maintenance Costs): $18,986,229.

Comments submitted in response to this comment request will be summarized and/or included in the request for Office of Management and Budget approval of the information collection request; they will also become a matter of public record.

III. Documents for Review and Comment

The following documents cited in this notice can be viewed at the Department's Internet Web site, http://www.usworkforce.org;

—The Workforce Investment Act Title I-B Standardized Record Data (WIASRD) layout;

—The Workforce Investment Act Quarterly Summary Report Format;

—The Instructions for Submission of WIA Quarterly Summary Report;

—The instructions for submission of the WIA Annual Report; and

—The instructions for capturing, computing and recording outcomes on the Customer Satisfaction Measures.

Dated: December 13, 2001.
Emily Stover DeRocco,
Assistant Secretary of Labor.

[FR Doc. 02-667 Filed 1-10-02; 8:45 am]

BILLING CODE 4510-30-P